DEPARTMENT OF THE INTERIOR

Minerals Management Service

Notice on Outer Continental Shelf Oil and Gas Lease Sales

AGENCY: Minerals Management Service, Interior.

ACTION: List of restricted joint bidders

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2006 through April 30, 2007. The List of Restricted Joint Bidders published in the Federal Register April 28, 2006 covered the period May 1, 2006 through October 31, 2006.

Group I. Exxon Mobil Corporation

ExxonMobil Exploration Company.

Group II. Shell Oil Company

Shell Offshore Inc.

SWEPI LP.

Shell Frontier Oil & Gas Inc.

Shell Consolidated Energy Resources Inc.

Shell Land & Energy Company.

Shell Onshore Ventures Inc.

Shell Offshore Properties and Capital II, Inc.

Shell Rocky Mountain Production LLC.

Shell Gulf of Mexico Inc.

Group III. BP America Production Company

BP Exploration & Production Inc.

BP Exploration (Alaska) Inc.

Group IV. TOTAL E&P USA, Inc.

Group V. Chevron Corporation

Chevron U.S.A. Inc.

Chevron Midcontinent, L.P.

Unocal Corporation.

Union Oil Company of California.

Pure Partners, LP.

Group VI. ConocoPhillips Company

ConocoPhillips Alaska, Inc.

ConocoPhillips Petroleum Company.

Phillips Pt. Arguello Production Company.

Burlington Resources Oil & Gas Company LP.

Burlington Resources Offshore Inc.

The Louisiana Land and Exploration Company.

Inexeco Oil Company.

Group VII. Eni Petroleum Co. Inc.

Eni Petroleum Exploration Co. Inc.

Eni Petroleum U.S. LLC.

Eni Oil U.S. LLC.

Eni Marketing Inc.

Eni BB Petroleum Inc.

Eni US Operating Co. Inc.

Eni BB Pipeline LLC.

Group VIII. Petrobras America Inc.

Dated: November 7, 2006.
R.M. “Johnnie” Burton,
Director, Minerals Management Service.

[FR Doc. E6-20495 Filed 12-4-06; 8:45 am]

BILLING CODE 4310-MR-P